INTERNATIONAL TRADE COMMISSION

[Investigation Nos. 332-350 and 332-351]

Monitoring of U.S. Imports of Tomatoes, Monitoring of U.S. Imports of Peppers

AGENCY: United States International Trade Commission.

ACTION: Changes in written submission's due date and date of publication of monitoring reports in 2000.

EFFECTIVE DATE: September 22 , 2000.

FOR FURTHER INFORMATION CONTACT: For general information, Timothy McCarty (202-205-3324) or Cathy Jabara (202-205-3309), Agriculture and Forest Products Division, Office of Industries, or for information on legal aspects, William Gearhart (202-205-3091), Office of the General Counsel, U.S. International Trade Commission. Hearing impaired persons can obtain information on these studies by contacting the Commission's TDD terminal on (202) 205-1810. General information concerning the Commission may also be obtained by accessing its internet server (http://www.usitc.gov).

Background

Section 316 of the North American Free-Trade Agreement Implementation Act (NAFTA Implementation Act), 19 U.S.C. 3381, directs the Commission to monitor imports of fresh or chilled tomatoes (HTS heading 0702.00) and fresh or chilled peppers, other than chili peppers (HTS subheading 0709.60.00), until January 1, 2009. As a result of such monitoring, the domestic industry producing a like or directly competitive perishable agricultural product may request, in a global safeguard petition filed under section 202 of the Trade Act of 1974 or a bilateral safeguard petition filed under section 302 of the NAFTA Implementation Act, that provisional relief be provided pending completion of a full section 202 or 302 investigation. If provisional relief is requested, the Commission has 21 days in which to make its decision and to transmit any provisional relief recommendation to the President. In response to the monitoring directive, the Commission instituted investigation No. 332-350, Monitoring of U.S. Imports of Tomatoes (59 FR 1763) and investigation No. 332-351, Monitoring of U.S. Imports of Peppers (59 FR 1762).

Although section 316 of the NAFTA Implementation Act does not require that the Commission publish reports on the results of its monitoring activities, the initial notices of investigation for these studies indicated that the Commission planned to publish reports on the monitoring annually. Subsequently, the Commission has published statistical reports in those years in which it was not conducting an investigation under other statutory authority with respect to such products.

On June 12, 2000, the Commission published in the Federal Register a notice that it intended to publish monitoring reports in September 2000. In the same notice, the Commission also invited all interested persons to submit written statements concerning the matters to be addressed in the reports, so as to be received no later than the close of business on June 28, 2000. In response to this request, the Commission received two comments, from the Florida Tomato Exchange and the Florida Department of Agriculture and Consumer Services, asking that additional data be included in the Commission's forthcoming reports and that the official record of these investigations be held open so that certain Florida statistics might be included in this year's reports. In response, the Commission extended the deadline for filing of written statements until October 2, 2000, and changed the date for intended publication of its reports to November 15, 2000.

Written Submissions

The Commission does not plan to hold a public hearing in connection with preparation of the 2000 statistical reports. However, interested persons are invited to submit written statements concerning the matters to be addressed in the reports. Commercial or financial information which a submitter desires the Commission to treat as confidential must be provided on separate sheets of paper, each clearly marked “Confidential Business Information” at the top. All submissions requesting confidential treatment must conform with the requirements of section 201.6 of the Commission's Rules of Practice and Procedure (19 CFR 201.6). All written submissions, except for confidential business information, will be made available in the Office of the Secretary of the Commission for inspection by interested persons. To be assured of consideration by the Commission, written statements relating to the Commission's report should be submitted to the Commission in accordance with section 201.8 of the Commission's rules at the earliest practical date and should be received no later than the close of business on October 2, 2000. All submissions should be addressed to the Secretary, United States International Trade Commission, 500 E Street SW., Washington, DC 20436.

Issued: September 22, 2000.
By order of the Commission.
Donna R. Koehnke,
Secretary.

[FR Doc. 00-24916 Filed 9-27-00; 8:45 am]

BILLING CODE 7020-02-P